DEPARTMENT OF AGRICULTURE

Forest Service

Big Bar Ranger District; California; Burnt Ranch Fire Resilient Community Project

AGENCY: Forest Service, USDA.

ACTION: Notice of intent to prepare an environmental impact statement.

SUMMARY: The Shasta-Trinity National Forest (STNF) will prepare an environmental impact statement (EIS) to document and publicly disclose the environmental effects of implementing a hazardous fuels reduction project on approximately 5,327 acres of National Forest System lands. Activities are proposed within the wildland urban interface or WUI (the zone where structures and other human developments meet, or intermingle with, undeveloped wild lands) of the community of Burnt Ranch, California as well as the Corral Late Successional Reserve (LSR). The proposed project would provide the Burnt Ranch community and the LSR with enhanced protection from catastrophic wildfire and increased fire fighter and public safety. The proposal includes thinning trees from below in overcrowded stands, plantations and along roadsides. Some thinning would be accomplished through commercial timber harvest of sawtimber and/or biomass as well as from prescribed burning. The Burnt Ranch Fire Resilient Community Project is located in sections 5, 4, 3, 2, 8, 9, 10, 11, 14, 15, 16, 17, 21, 22, 23, 24, 25, 26, 27, 28, 33, 34, and 35 in T. 5 N., R. 6 E.; sections 19 and 30 in T. 5 N., R. 7 E., sections 1, 2, 3, 11 and 12 in T. 4 N., R. 6 E. Humboldt Meridian.

DATES: Comments concerning the scope of the analysis must be received by January 26, 2015. The draft environmental impact statement is expected May 2015 and the final environmental impact statement is expected February 2016.

ADDRESSES: Send written comments to Weaverville Ranger Station, P.O. Box 1190 Weaverville CA 96093. Comments may also be sent via email to comments-pacificsw-shasta-trinity-bigbar-weaverville@fs.fed.us, or via facsimile to (530) 623-6010.

FOR FURTHER INFORMATION CONTACT: Stephanie Riess, Environmental Coordinator at, (530) 623-1755, or stephaniesriess@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The overarching goals of the current planning effort is to move Burnt Ranch towards becoming a “fire resilient” community and to promote and maintain late successional conditions within the Corral Late Successional Reserve in the maximum amounts sustainable through time. For this project a “fire resilient” community is defined as “communities that experience minimum disruption to life and economy after a hazard event has passed”. Community wildfire protection focuses on increasing fire resilience by managing vegetation proximate to homes and other community values at risk. Fire-safe planning can lead to decreased property, infrastructure, and habitat losses from fires within the Wildland Urban Interface (WUI) and can result in lower fire suppression costs.

The strategy focuses on implementing complementary fuel and fire hazard reduction actions on National Forest System (NFS) lands of the Shasta-Trinity National Forest (STNF) and on adjacent private lands. These actions are designed to implement the all lands approach articulated by Agriculture Secretary Tom Vilsack in a 2009 speech. “The threats facing our Forests don't recognize property boundaries. So in developing a shared vision around forest, we must also be willing to look across property boundaries. In other words, we must operate at a landscape-scale by taking an all-lands approach”.

Currently, partners engaged in the planning effort on both private and Forest Service lands include the Natural Resource Conservation Service (NRCS), Trinity County Resource Conservation District (TCRCD), Willow Creek Fire Safe Council, Trinity County Fire Safe Council, Trinity County, Hawkins Bar Volunteer Fire Department, and local landowners.

The TCRCD and NRCS are currently engaged in planning fuels reduction treatments on private lands within the Burnt Ranch community that will contribute to the reduction of the likelihood of adverse wildfire impacts on the Burnt Ranch community and the Corral LSR.

The Burnt Ranch Fire Resilient Community Project actions are proposed entirely on NFS lands of the Shasta-Trinity National Forest. This decision will not authorize any treatment on lands not managed by the Forest Service.

The Burnt Ranch Fire Resilient Community project planning area is approximately 8,347 acres in size. It is located in Trinity County, California. Portions or all of the following Sections fall within the planning area: Humboldt Meridian, T. 4 N., R. 6 E., Section 1, 2, 3, 11, and 12. T. 5 N., R. 6 E., Section 5, 4, 3, 2, 8, 9, 10, 11, 14, 15, 16, 17, 21, 22, 23, 24, 25, 26, 27, 28, 33, 34, and 35. T. 5 N., R. 7 E., Section 19, and 30.

The project area is within the Trinity River Management Area (Management Area #15) of the Shasta-Trinity Land and Resource Management Plan (LRMP).

The project area is entirely within the WUI of the Burnt Ranch community as identified in the Trinity County Community Wildfire Protection Plan Update 2010 (CWPP). In addition, the majority of the planning area falls within the Corral LSR.

Management objectives within LSRs include protecting and enhancing conditions of late-successional forest ecosystems, which serve as habitat for late-successional and old-growth related species including the northern spotted owl. There are approximately 5,912 acres of critical habitat for the threatened Northern spotted owl within the planning area.

Objectives for LSRs include reducing the risk of large-scale disturbance, including stand-replacing fire, insect and disease epidemic, and major human caused impacts. The Corral LSR has been identified as being in an area of elevated risk to large-scale disturbance due to changes in the characteristics and distribution of the mixed-conifer forests resulting from past fire suppression.

There are approximately 5,912 acres of critical habitat for the threatened Northern spotted owl within the planning area. In management within designated Critical Habitat, and based on the intent expressed by Forest Service Chief Tom Tidwell and US Fish and Wildlife Service Director Dan Ashe April 24, 2013, our intent is to not be so conservative that, to avoid risks, we forego actions necessary to conserve forest ecosystems necessary for the long-term conservation of the northern spotted owl. At the same time, our intent is also not to be so aggressive that we subject spotted owls and their habitat to treatments where the long-term benefits do not clearly outweigh the short-term risks. Balance will be the key to our success. In its rule on Critical Habitat USFWS expressed: “The Service encourages land managers to consider the conservation of existing high-quality northern spotted owl habitat, the restoration of forest ecosystem health, and the ecological forestry management practices recommended in the Revised Recovery Plan that are compatible with both the goals of northern spotted owl recovery and Standards and Guidelines of the Northwest Forest Plan.”

The 2011 Revised Recovery Plan has the following Recovery Actions that apply to the project area:

Recovery Action 10: Conserve spotted owl sites and high value spotted owl habitat to provide additional demographic support to the spotted owl population.

Recovery Action 32: Maintain substantially all of the older and more structurally complex multi-layered conifer forests on Federal lands outside of MOCAs in the Olympic Peninsula, Western Washington Cascades, Western Oregon Cascades, Oregon Coast Range, Oregon and California Klamath, and California Coast Provinces, allowing for other threats, such as fire and insects, to be addressed by restoration management actions. These forests are characterized as having large diameter trees, high amounts of canopy cover, and decadence components such as broken topped live trees, mistletoe, cavities, large snags, and fallen trees.

The proposed treatment areas are derived from the WUI boundary, which is divided into four zones. These WUI zones are strategically employed by Trinity County in their CWPP as well as in the Shasta-Trinity National Forest Fire Management Plan (FMP). The WUI zones are situated by proximity to a residence or structure. Treatments within the zones are developed to move that WUI zone towards specific fire behavior goals. Zone one, the Improvement Zone, is the residence or structure itself and has a goal of being a fire resistant structure or improvement. Zone two, the Reduced Fuel Zone, is the 100 foot area surrounding a structure and has the fire behavior goal of flame lengths less than two feet with no crown fire potential. Zone three, the Defense Zone, is 0.25 miles around a structure and has the fire behavior goal of flame lengths less than four feet and limited crown fire potential. Zone four, the Threat Zone, is 1.5 miles around a structure and has fire behavior goals of flame lengths less than eight feet and bringing crown fire to the ground (to a surface fire). No treatments are proposed for Zone 1 or 2 (Improvement Zone and Reduced Fuel Zone respectively), as these zones are generally located on lands not administered by the Forest Service.

In general, a need for action is identified by comparing the existing conditions in an area to desired future conditions as defined by direction in the Land and Resource Management Plan and requirements of other applicable laws and public policies.

In summary, the existing condition is as follows:

• The existing fuel condition poses a substantial hazard (measured by potential fire behavior) to wildland urban interface areas, including public and firefighter safety during access and egress; and the ability of firefighters to safely and effectively suppress wildfire.

• The existing fuel condition poses a substantial hazard (measured by potential fire behavior) of a large-scale disturbance that could result in the loss of key late-successional structure within the Corral LSR.

• Current overstocked conditions within plantations limit the ability of the plantations to develop late successional characteristics.

Vegetation

In general, vegetation in the planning area is mixed conifer type dominated by Douglas-fir. Ponderosa pine, sugar pine, and incense cedar are also common. Several hardwoods, including Pacific madrone, canyon live oak, tanoak, California black oak, and Oregon white oak, comprise a large component of some stands. In these hardwood stands, younger Douglas-fir are shading out the hardwoods, simplifying stand structure.

Based on available information as summarized in the Forest Wide Late Successional Reserve Assessment (USDA, 1999), historically, vegetation was probably different in terms of structure and species composition. In general, forested stands tended to be more open than currently found. There was a lot of stand or patch size diversity, with most of the patches containing trees of the same age and size class. The relatively denser stands were most likely found on the lower one-half of the north facing slopes, in riparian areas, and areas of deep, productive soils. More open stands occurred on south facing and the upper one-half of north facing slopes.

Currently, some stands within the planning area contain from approximately 400 to over 2,000 trees per acre (TPA). Average canopy cover ranges from approximately 80 to 96 percent in stands outside of plantations. Given the vertical continuity of the understory, canopy base height (CBH) ranges from 3 to 26 feet. The majority of the stands outside of plantations measured an average CBH less than 13 feet.

Fuels Condition

Prior to European settlement, naturally occurring levels of dead woody material (snags and down logs) were likely lower than present day due to the frequency of fires. Fuel loadings within small fuel size classes were likely significantly less than they are today, with the greatest proportion of large down logs found in mesic areas, north slopes, and higher elevations.

The historic fire regime has changed from a short interval, low intensity regime to a moderate to high intensity fire regime with infrequent intervals. Historically fires occurred at a 3 to 7 year interval, creating stands with open canopies and keeping woody debris levels low. It is reasonable to conclude that historically, fuel loadings would have, on average, ranged between 5-10 tons per acre.

Currently, dead and downed fuel levels within the planning area are variable; with fuel loadings ranging between 5-40 tons per acre. The lowest loadings are located in brush fields and mixed hardwood stands that are situated on dry, rocky south aspects. Fuel loadings within conifer stands, located on north aspects, tend to have the highest fuel loadings. Ladder fuels exist in a variety of settings within the planning area, with the highest concentration in canopy gaps adjacent to conifer stands, and within plantations.

Fire Hazard

Hazard describes potential fire behavior, which has implications for resource damage as well as suppression capability. Currently approximately 85% of the planning area is classified as having high to extreme fire hazard with the potential for flame lengths over 8 feet in length. Resistance to control is high under these conditions because flame lengths are too intense for firefighters to work near. It prevents firefighters from directly attacking a fire's edge and requires specialized equipment such as fire engines, air tankers, dozers, and helicopters.

Additionally, 85% of the planning area is classified as having the potential for passive or active crown fire. These conditions can allow for wildfire events that threaten resources and property, jeopardize public and firefighter safety, create hazardous air conditions and have very high suppression costs.

Plantations

Plantations within the planning area currently range in age from 20 to 56 years. Trees per acre currently range from approximately 140 to 720. Early seral plantations (approximately 20 years old) are highly diverse in shrub and herbaceous species, with the dominant conifer trees measuring 5 to 8 inches diameter at breast height (DBH). Some of the oldest plantations have trees that are over 10 inches DBH. In these older plantations, the competition between trees is greater and the mortality rate is increasing as some trees are being shaded out. Brush species are also being shaded out, and these plantations tend to be very dense with contiguous vertical fuels from the soil surface to the crown. In some cases, plantations were planted heavily with ponderosa pine. While this species does occur in the project area, Douglas-fir is better suited to many habitats and the pine is being out-competed by the Douglas-fir.

Plantations are particularly susceptible to active crown fire due to their low canopy base heights and interlocking crowns. Plantations are typically intermixed with brush and grass ingrowth and these light flashy fuels burn quickly with high intensities, which can cause rapid rates of spread. Wildfire moving through a plantation located adjacent to a natural stand with larger trees can provide a path for fire to easily get into the upper canopy. Because of this, and the proximity of plantations to the Burnt Ranch community, fire behavior goals for all plantations with the WUI are designed to reduce the fire behavior to flame lengths less than four feet with limited crown fire potential. Additionally, mitigating the fire effects in a plantation, if a fire should burn in the project area, will improve the likelihood that these young forests will continue the development to become mature forests. If a stand replacing fire occurs, then forest development is restarted.

Overgrown plantations provide no habitat or only poor to marginal habitat for the majority of Forest Service Sensitive or Federally-listed species within the project area. Wildlife species that may occur in these plantations tend to be habitat generalists, such as deer and rodents. However, the positioning and occurrence of plantations relative to older stands can offer a mosaic of habitat types that is beneficial to many species including those dependent on late-successional habitat for nesting. A mosaic of habitat types can be of particular importance to species such as Pacific fisher and spotted owl whose prey will utilize these younger stands for foraging and nesting. Thinned plantations can also provide foraging habitat for a wide variety of bird species, such as owls, raptors and passerines. There is a need to improve the health and vigor of existing plantations so that they can be retained on the landscape and allowed to develop into late-successional habitat.

The plantations in the Burnt Ranch Project area are not developing the structure and complexity that is desirable for wildlife species dependent on late-successional forests. Reforestation strategy has evolved as the management of the forest has evolved. Trees were planted densely with an assumption that these planted areas would be actively managed until they were ready to harvest again. This strategy has generated the need for treatments designed to support the growth and development of late-successional forest structure.

Desired Future Conditions

Desired future conditions for the planning area are described in the LRMP, as well as in the Burnt Ranch and Soldier Creek Watershed Analysis (WA), the Trinity County CWPP update, and the Forest Wide Late Successional Reserve Assessment (LSRA). In summary, these desired future conditions are as follows:

• Forest Goal: Achieve a balance of fire suppression capability and fuels management investments that are cost effective and able to meet ecosystem objectives and protection responsibilities (LRMP, page 4-4).

• Forest Standard and Guidelines: Activity fuels that remain after meeting wildlife, riparian, soil, and other environmental needs will be considered surplus and a potential fire hazard. The amount and method of disposal will be determined in the ecosystem analysis (LRMP, page 4-17). Consider fuelbreak construction investments when they complement Forest health/biomass reduction needs, very high and extensive resource values are at risk and to protect Forest communities. Design fire prevention efforts to minimize human-caused wildfires commensurate with the resource values-at-risk. Natural fuels will be treated in the following order of priority: (1) Public safety; (2) high investment situations; (3) known high fire occurrence areas; (4) coordinated resource benefits i.e. ecosystem maintenance for natural fire regimes (LRMP, page 4-18).

• Management Area Direction: Late-successional reserve stands are managed to maintain health and diversity components through the use of prescribed fire and thinning from below (LRMP, page 4-142).

• Burnt Ranch and Soldier Creek Watershed Analysis: Develop fuel breaks, thin wild stands and plantations, and create roadside buffers to reduce fuel loading and enhance fire protection capability (WA page, 61).

• Trinity County CWPP update: Consider proactive thinning and fuels reduction of plantations during their period of greatest vulnerability to fire (CWPP update, page 79). Implementing a system of strategic fuel breaks along ridges and roadsides is suggested as an extremely productive and agreed upon strategy for creating a more fire-safe community (CWPP update, page 80).

• Forest Wide Late Successional Reserve Assessment: Large stand replacing, high intensity fires are not desirable within LSRs. Throughout the LSRs, fuel conditions should generally range from low to moderate fire behavior (LSRA, page 163).

The goals of the current planning effort are to move Burnt Ranch towards becoming a “fire resilient” community and to promote and maintain late successional conditions within the Corral LSR in the maximum amounts sustainable through time. This proposal would change the current potential fire behavior within the Burnt Ranch WUI to fire behavior similar to the goals given for each WUI zone. In addition, the following needs will help reduce the risk of fire spreading from NFS lands to private lands while also reducing the risk of fire spreading from private lands to NFS lands.

1. There is a need to reduce the potential fire behavior in the WUI Defense Zone to low intensity (measured by flame lengths averaging 4 feet or less and with limited crown fire potential) during 90th percentile weather conditions.

2. There is a need to reduce the potential fire behavior in the WUI Threat Zone to moderate intensity (measured by flame lengths averaging 8 feet or less and bringing crown fire to the ground) during 90th percentile weather conditions.

3. There is a need to reduce the potential fire behavior along roadsides within the planning area to establish an environment where fire fighters can safely and effectively suppress wildfires, and allow for safer access and egress routes for the public.

4. There is a need to reduce the potential for high to extreme fire behavior within the Corral LSR to low to moderate fire behavior (measured by flame lengths and crown fire potential) during 90th percentile weather conditions.

Proposed Action

The proposed action was developed based on the purpose and need using fire modeling, research, professional and local knowledge, and vegetation and fuel loading data collected for the project area. A total of 5,327 acres are proposed for one or more treatment types. As part of the proposed action, resource protection measures will be included that assure consistency with environmental laws such as the Endangered Species Act, the Clean Air Act, the Clean Water Act, the National Historic Preservation Act and the National Forest Management Act.

Authorization for Road Use

As part of the proposed action, the Forest will authorize the temporary administrative use of Forest System roads 5N15, 5N10, 5N09B, 5N27B and 5N60B. These roads are currently classified as Maintenance Level 1, closed to vehicular traffic, considered intermittent service roads, until needed for future management activities. These roads would be opened (existing berms would be removed and routine maintenance such as brushing or grading of the road could take place to make them safe for use) as needed to access treatment units. All level 1 roads utilized for project implementation would be closed (berms rebuilt, etc.) after initial thinning treatments are completed.

Roads 5N30, 5N60BA and 5N27C are private roads under Special Use Authorizations. The STNF will seek input from the permittees on dual use of these roads under FSM 7700 and FSM 2700.

Defense Zone Treatments

Defense Zone Units

Approximately 1,514 acres located within the WUI Defense Zone are proposed for treatment. Of those, approximately 420 acres will have understory treatments only with no material proposed for removal. The remaining Defense Zone Units (approximately 1,094 acres) are proposed to have understory treatments as well as thin-from-below treatments which would involve mechanical removal (sawlog and/or biomass utilization). Treatments would be applied where trees per acre (TPA), canopy base height or fuel loading do not meet desired conditions. Treatments will reduce the TPA, especially in the smaller size classes and increase the canopy base height (CBH), leaving smaller trees singly and/or in a clumped distribution spaced from the largest trees. In general, trees to be removed consist of understory trees (i.e. suppressed and intermediate) that act as ladder fuels, and some co-dominant trees that currently create a uniformly dense canopy. Treatments are designed to reduce the fire behavior in the Defense Zone Units to flame lengths of less than four feet with limited crown fire potential. These lower flame lengths will help reduce the risk of fire spreading from NFS lands to private lands while also reducing the risk of fire spreading from private lands to NFS lands.

Defense Zone and Threat Zone Treatments

Plantations

There are approximately 942 acres of plantations within the planning area that were planted between 1958 and 1993. Treatments in plantations will focus on increasing the spacing between trees, thinning around hardwoods and multiple sprouting hardwoods, and, in general, breaking up the continuity of surface, ladder, and crown fuels. Treatments would be applied where trees per acre (TPA), canopy base height or fuel loading do not meet desired conditions All plantation acres are proposed for utilization of forest products (sawlog and/or biomass utilization) where feasible. The slope of the area, the ability to operate ground-based equipment, and hydrological features can all impact the feasibility of utilization of forest products.

In plantations with a high percentage of ponderosa pine, thinning will remove many of the trees that have been out-competed by the natural regeneration (Douglas-fir and incense cedar), creating an open stand. These treatments will accelerate the development of late successional characteristics by creating a forest that is complex vertically and horizontally. When there are a variety of tree ages, tree species, and spacing distances between individual trees (including openings and dense pockets) the forest can support a diversity of wildlife species that may not all have the same requirements. Treatments are designed to reduce the fire behavior in the plantations to flame lengths less than four feet with limited crown fire potential.

Roadside Fuel Breaks

Approximately 1,975 acres are proposed for roadside fuel breaks in the planning area. These treatments extend 600 feet from either side of identified roads. Fuel breaks are further delineated into three different profiles. Profile one extends from the road edge out 100 feet, profile two from 100 to 300 feet, and profile three from 300 to 600 feet. Treatment prescriptions will be most intense closer to the road, and reduce in intensity the farther away from the road with the objectives of establishing an environment where fire fighters can suppress fire safely and effectively. Treatments would be applied where trees per acre (TPA), canopy base height or fuel loading do not meet desired conditions. Roadside fuel breaks will allow for safer access and egress routes for the public, while also reducing the risk that fires started near roads will spread to the rest of the forest.

Profiles one and two (approximately 1,140 acres) are proposed for understory treatments as well as thin-from-below treatments which could involve mechanical removal (sawlog and/or biomass utilization). Understory treatments with no removal are proposed for profile three (approximately 836 acres). Treatments will reduce the TPA (especially in the smaller size classes) and increase the canopy base height. The treatment will also leave smaller trees singly and in a clumped distribution spaced from the largest trees in the fuel break.

Activities Common to Defense Zone Units, Plantations, and Roadside Fuel Breaks

These actions may occur at the same time or at a later date as the primary actions, and may occur where there is no removal proposed. These activities would only occur within defense zone units, treated plantations, and roadside fuel breaks. Treatments would reduce and/or rearrange activity and surface fuels in excess of desired conditions.

Treatments would be applied where trees per acre (TPA), canopy base height or fuel loading do not meet desired conditions. Activities will promote long-term late successional conditions by creating heterogeneity and increased resilience to large high-severity fires.

• Pruning to raise CBH—approximately 4,431 acres. This treatment could occur within all Defense Zone Units, Plantations and Roadside Fuel Breaks.

• Activity fuels and natural surface fuels in excess of desired conditions that are not proposed for removal will be treated solely by or a combination of the following:

○ Lopped and scattered—approximately 672 acres. This treatment could occur intermittently within Defense Zone Units, Roadside Fuel Breaks, and Plantations depending on fuel loading conditions after initial treatments and slope steepness.

○ Masticated or chipped (on slopes <35%)—approximately 2,942 acres. This treatment could occur intermittently across Defense Zone Units, Roadside Fuel Breaks, and Plantations depending on slope steepness, accessibility and fuel loading.

○ Machine piled and burned (slopes <35%)—approximately 150 acres. This treatment could occur intermittently across Defense Zone Units, Roadside Fuel Breaks, and Plantations where mechanical removal (sawlog and/or biomass utilization) is proposed.

○ Hand piled and burned—approximately 4,431 acres. This treatment could occur intermittently across Defense Zone Units, Roadside Fuel Breaks, and Plantations depending on slope steepness, proximity to homes and air quality concerns.

○ Jackpot burned—approximately 4,431 acres. This treatment could occur intermittently across Defense Zone Units, Roadside Fuel Breaks, and Plantations depending on slope, proximity to homes and air quality concerns.

○ Public Fuelwood Utilization—approximately 2,520 acres. This treatment would leave material suitable for public fuel wood use onsite in areas that are accessible, or decked along the roadside where safe to do so. This treatment could occur intermittently across Defense Zone Units, Roadside Fuel Breaks, and Plantations.

○ Understory Maintenance Burning—Approximately 4,431 acres. This treatment could occur within approximately two to ten years after initial treatment, or as the surface fuel conditions require for maintaining the desired fire behavior. This treatment could occur within all Defense Zone Units, Plantations, and Roadside Fuel Breaks. Multiple burn entries may be needed to maintain desired vegetation and fuel loadings.

Prescribed Fire Understory Units

Approximately 896 acres are proposed for prescribed understory fire treatment. No thinning will occur in these units. Treatments are intended to move these areas toward historic fire regime and fuel loading conditions and to allow fire personnel to make use of roads, natural barriers, and topography (such as ridge tops and drainages) for control lines during prescribed burning activities in other units (see previous section). The Prescribed Fire Understory Units will help reduce the overall amount of control lines needed within the planning area, allowing for more cost effective and safer understory burning, and reducing the potential for resource damage. Multiple burn entries of primarily low to moderate intensity fire may be needed to maintain desired vegetation and fuel loadings. Natural boundaries would be used whenever possible; however, control line construction will still be needed in some areas. Desired outcomes are a mosaic-burn severity pattern primarily from low to moderate intensity surface fire across 70-80% of the treatment area. Treatments would be applied where trees per acre (TPA), canopy base height or fuel loading do not meet desired conditions. This treatment would create mosaic forest conditions that contribute to late successional characteristics while providing a more fire-resilient landscape.

Responsible Official

Forest Supervisor, Shasta-Trinity National Forest.

Nature of Decision To Be Made

The Forest Supervisor will decide whether to implement the proposed action, take an alternative action that meets the purpose and need or take no action.

Scoping Process

The project is included in the Shasta-Trinity National Forest's quarterly schedule of proposed actions (SOPA). Detailed information on the proposed action, including maps, that will aid in the informing comments will be available on the Forest Web site at: http://www.fs.fed.us/nepa/nepa_project_exp.php?project=38444.

This notice of intent initiates the scoping process, which guides the development of the environmental impact statement.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: December 17, 2014.
David R. Myers,
Forest Supervisor.

[FR Doc. 2014-30182 Filed 12-23-14; 8:45 am]

BILLING CODE 3410-11-P